ENVIRONMENTAL PROTECTION AGENCY

[FRL-9778-8; CERCLA-04-2012-3777]

Circle Environmental #1 and #2 Sites; Dawson, Terrell County, GA; Notice of Settlement

AGENCY: Environmental Protection Agency (EPA).

ACTION: Notice of settlement.

SUMMARY: Under the Comprehensive Environmental Response, Compensation and Liability Act (CERCLA), the United States Environmental Protection Agency has entered into a settlement with thirty-four (34) parties to recover past cost resulting from a removal action at the Circle Environmental #1 and #2 Superfund Sites located in Dawson, Terrell County, Georgia.

DATES: The Agency will consider public comments on the settlement until March 14, 2013. The Agency will consider all comments received and may modify or withdraw its consent to the settlement if comments received disclose facts or considerations which indicate that the settlement is inappropriate, improper, or inadequate.

ADDRESSES: Copies of the settlement are available from Ms. Paula V. Painter. Submit your comments by Site name Circle Environmental # 1 and #2 Site by one of the following methods:

• www.epa.gov/region4/superfund/programs/enforcement/enforcement.html.

• Email. Painter.Paula@epa.gov.

• U.S. Environmental Protection Agency, 61 Forsyth Street SW., Atlanta, Georgia 30303.

FOR FURTHER INFORMATION CONTACT: Paula V. Painter at 404/562-8887.

Dated: January 15, 2013.
Anita L. Davis,
Chief, Superfund Enforcement & Information Management Branch, Superfund Division.

[FR Doc. 2013-03252 Filed 2-11-13; 8:45 am]

BILLING CODE 6560-50-P